DEPARTMENT OF THE INTERIOR

Office of the Special Trustee for American Indians; Submission of Information Collections for Review by the Office of Management and Budget With Comment Request

AGENCY: Office of the Special Trustee for American Indians, Interior.

ACTION: Notice of requests for extension of information collection approvals.

SUMMARY: In compliance with the Paperwork Reduction Act of 1995, the Office of the Special Trustee for American Indians announces the following Information Collection Requests have been submitted to the Office of Management and Budget (OMB) for review and approval: Application for Technical Assistance, OMB No. 1035-0001; Application for Technical Assistance to Withdraw Funds from Trust Status (General), OMB No. 1035-0002; and Application to Withdraw Tribal Funds from Trust Status, OMB No. 1035-0003. These information collections and their expected burdens and costs remain unchanged from their original review and approval by the Office of Management and Budget. The request to the Office of Management and Budget is to extend these currently approved collections for three years.

DATES: Comments must be submitted on or before June 27, 2003.

ADDRESSES: You may telefax your comments to: Attention: Desk Officer for the Interior Department, Office of Management and Budget at (202) 395-5806. You may also e-mail comments to: Ruth_Solomon@omb.eop.gov.

Please also send a copy of your comments to: Ms. Sarah Yepa, Office of the Special Trustee for American Indians, Trust Regulations, Policy & Procedures, 505 Marquette, NW., Suite 1000, Albuquerque, NM 87102.

FOR FURTHER INFORMATION CONTACT: Sarah Yepa, telephone (505) 816-1003, FAX (505) 816-1377.

SUPPLEMENTARY INFORMATION: The American Indian Trust Fund Management Reform Act of 1994 (the Reform Act) allows tribes to withdraw their money held in trust by the U.S. Government. To withdraw their money, tribes must first submit an application and get approval from the Secretary of the Interior. The Reform Act also allows tribes to apply for technical assistance and financial assistance to complete the application. Section 1200.13 tells tribes how to submit an application to withdraw their money and Section 1200.14 tells them how they can apply for technical assistance and financial assistance. These information collections allow us to collect documents associated with tribes withdrawing their funds held in trust and applying for technical assistance to withdraw funds under 25 CFR 1200.

Responses to these collections of information are required to obtain or retain a benefit. A Federal Register notice required under 5 CFR 1320.8(d), soliciting comments on proposed renewal of these collections of information, was published on February 21, 2003 (68 FR 8524); no comments were received.

Request for comments: The Office of the Special Trustee for American Indians requests you to send your comments on this collection to the locations listed in the ADDRESSES section. Your comments should address:

(a) Is this information collection necessary for the proper performance of the functions of the Special Trustee and will the information have practical utility?

(b) Is the Special Trustee's estimate of the burden (hours and cost) of the collection of information accurate? Are the methodology and assumptions used valid?

(c) Could we enhance the quality, utility and clarity of the information to be collected? and

(d) Are there ways we could minimize the burden of the collection of the information on the respondents, such as through the use of automated collection techniques or other forms of information technology.

1. OMB Approval Number: 1035-0001.

Title: Application for Technical Assistance, 25 CFR Part 1200.

Brief Description of collection: This collection provides a benefit and a vehicle for tribes to obtain help in withdrawing funds from their trust account held by the U. S. Government using OST Form No. SF-424A, “Application for Technical Assistance to Withdraw Funds from Trust Status (Specific Budget).”

Type of review: Renewal.

Respondents: Tribal Governments.

Number of Respondents per year: 12.

Estimated Time per Response: 39 hours.

Frequency of Response: Once.

Total Annual Burden to Respondents: 468 hours.

2. OMB Approval Number: 1035-0002.

Title: Application for Technical Assistance to Withdraw Tribal Funds from Trust Status (General), 25 CFR Part 1200.

Brief Description of collection: This collection provides a benefit and a vehicle for tribes to obtain help in withdrawing funds from their trust account held by the U. S. Government using OST Form No. SF-424, “Application for Technical Assistance to Withdraw Funds from Trust Status (General).”

Type of review: Renewal.

Respondents: Tribal Governments.

Number of Respondents per year: 12.

Estimated Time per Response: 13 hours.

Frequency of Response: Once.

Total Annual Burden to Respondents: 156 hours.

3. OMB Approval Number: 1035-0003.

Title: Application to Withdraw Tribal Funds from Trust Status, 25 CFR Part 1200.

Brief Description of collection: This collection provides a benefit and a vehicle for tribes to obtain help in withdrawing funds from their trust account held by the U. S. “Application for Technical Assistance to Withdraw Funds from Trust Status.”

Type of review: Renewal.

Respondents: Tribal Governments.

Number of Respondents per year: 12.

Estimated Time per Response: 342 hours.

Frequency of Response: Once.

Total Annual Burden to Respondents: 4,104 hours.

A Federal agency may not conduct or sponsor, and a person is not required to respond to, a collection of information unless it displays a currently valid OMB Control Number.

It is our policy to make all comments available to the public for review at the location listed in the ADDRESSES section, Suite 1000, during the hours of 8 a.m.—4:30 p.m., MDT Monday through Friday except for legal holidays. If you wish to have your name or address withheld from review, you must state so prominently at the beginning of your comment. We honor all requests to the extent allowable by law. However, comments from businesses or their represents are made public. We may decide to withhold the information for other reasons.

The Office of Management and Budget has up to 60 days to approve or disapprove the information collection but may respond after 30 days; therefore, public comments should be submitted to OMB within 30 days to assure full consideration.

Dated: May 22, 2003.
Richard Fitzgerald,
Acting Director, Trust Regulations, Policy & Procedures.

[FR Doc. 03-13234 Filed 5-27-03; 8:45 am]

BILLING CODE 4310-2W-P